NATIONAL FOUNDATION ON THE ARTS AND THE HUMANITIES

Meetings of Humanities Panel

AGENCY: The National Endowment for the Humanities.

ACTION: Cancellation of panel meeting.

SUMMARY: Pursuant to the provisions of the Federal Advisory Committee Act (Public Law 92-463, as amended), notice is hereby given that the following meeting of the Humanities Panel at the Old Post Office, 1100 Pennsylvania Avenue, NW., Washington, DC 20506, has been cancelled.

FOR FURTHER INFORMATION CONTACT: Michael McDonald at (202) 606-8322.

Cancellation

Date: August 26, 2005.

Time: 8:30 a.m. to 5 p.m.

Room: 315.

Program: This meeting will review applications for EDISTEment in Peer Review, submitted to the Division of Education at the July 30, 2005, deadline.

Dated: July 28, 2005.
Michael McDonald,
Acting Advisory Committee Management Officer.

[FR Doc. 05-15255 Filed 8-2-05; 8:45 am]

BILLING CODE 7536-01-P